DEPARTMENT OF TRANSPORTATION

Federal Aviation Administration

14 CFR Part 39

[Docket No. 2003-CE-15-AD; Amendment 39-13207; AD 2003-13-07]

RIN 2120-AA64

Airworthiness Directives; Short Brothers and Harland Ltd. Models SC-7 Series 2 and SC-7 Series 3 Airplanes

AGENCY: Federal Aviation Administration, DOT.

ACTION: Final rule.

SUMMARY: This amendment adopts a new airworthiness directive (AD) that applies to all Short Brothers and Harland Ltd. (Shorts) Models SC-7 Series 2 and SC-7 Series 3 airplanes. This AD requires you to repetitively inspect all flight control system rods for corrosion and cracks, replace any cracked rod, and repair corrosion damage or replace any corroded rod depending on the extent of the damage. This AD is the result of mandatory continuing airworthiness information (MCAI) issued by the airworthiness authority for the United Kingdom. The actions specified by this AD are intended to prevent failure of any flight control system rod caused by cracks or corrosion. Such failure could lead to complete failure of the flight control system with consequent loss of control of the airplane.

DATES: This AD becomes effective on August 11, 2003.

The Director of the Federal Register approved the incorporation by reference of certain publications listed in the regulations as of August 11, 2003.

ADDRESSES: You may get the service information referenced in this AD from Short Brothers PLC, P.O. Box 241, Airport Road, Belfast BT3 9DZ Northern Ireland; telephone: +44 (0) 28 9045 8444; facsimile: +44 (0) 28 9073 3396. You may view this information at the Federal Aviation Administration (FAA), Central Region, Office of the Regional Counsel, Attention: Rules Docket No. 2003-CE-15-AD, 901 Locust, Room 506, Kansas City, Missouri 64106; or at the Office of the Federal Register, 800 North Capitol Street, NW., suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Civil Airworthiness Authority (CAA), which is the airworthiness authority for the United Kingdom, recently notified FAA that an unsafe condition may exist on all Models SC-7 Series 2 and SC-7 Series 3 airplanes. The CAA reports 27 flight control rods with corrosion beyond acceptable limits and 15 rods with cracks. This is on a total of 26 different aircraft.

What is the potential impact if FAA took no action? Cracked or corroded flight control rods, if not detected or corrected, could lead to complete failure of the flight control system with consequent loss of control of the airplane.

Has FAA taken any action to this point? We issued a proposal to amend part 39 of the Federal Aviation Regulations (14 CFR part 39) to include an AD that would apply to all Shorts Models SC-7 Series 2 and SC-7 Series 3 airplanes. This proposal was published in the Federal Register as a notice of proposed rulemaking (NPRM) on April 10, 2003 (68 FR 17563). The NPRM proposed to require you to repetitively inspect all flight control system rods for corrosion and cracks, replace any cracked rod, and repair corrosion damage or replace any corroded rod depending on the extent of the damage.

The NPRM also proposed to give initial inspection credit to those operators who had previously inspected the flight control rods in accordance with Shorts Service Bulletin 27-74 (any revision level).

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

• Provide the intent that was proposed in the NPRM for correcting the unsafe condition; and

• do not add any additional burden upon the public than was already proposed in the NPRM.

How does the revision to 14 CFR part 39 affect this AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How many airplanes does this AD impact? We estimate that this AD affects 24 airplanes in the U.S. registry.

What is the cost impact of this AD on owners/operators of the affected airplanes? We estimate the following costs to accomplish the initial inspection:

Labor cost | Parts cost | Total cost per airplane | Total cost on U.S. operators
250 hours × $60 per hour = $15,000 | No parts necessary to accomplish inspection. | $15,000 per airplane. | $15,000 × 24 airplanes = $360,000.

The follow-up inspections will be substantially less than the initial inspection because the flight control rods only have to be removed in the initial inspection. Replacement control rods cost $2,000. We have no way of determining the number of airplanes that may need such repair/replacement.

Compliance Time of This AD

What will be the compliance time of this AD? The initial inspection compliance time of this AD is “within the next 3 months after the effective date of this AD or within 24 months after the last inspection accomplished in accordance with Shorts Service Bulletin 27-74 (any revision level), whichever occurs later.” The repetitive inspection compliance time of this AD is “thereafter at intervals not to exceed 24 months.”

Why is the compliance time presented in calendar time instead of hours time-in-service (TIS)? The unsafe condition specified by this AD is caused by corrosion. Corrosion can occur regardless of whether the aircraft is in operation or is in storage. Therefore, to ensure that the unsafe condition specified in this AD does not go undetected for a long period of time, the compliance is presented in calendar time instead of hours TIS.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-13-07 Short Brothers and Harland Ltd.: Amendment 39-13207; Docket No. 2003-CE-15-AD.

(a) What airplanes are affected by this AD? This AD affects Models SC-7 Series 2 and SC-7 Series 3 airplanes, all serial numbers, that are certificated in any category.

(b) Who must comply with this AD? Anyone who wishes to operate any of the airplanes identified in paragraph (a) of this AD must comply with this AD.

(c) What problem does this AD address? The actions specified by this AD are intended to prevent failure of any flight control system rod caused by cracks or corrosion. Such failure could lead to complete failure of the flight control system with consequent loss of control of the airplane.

(d) What actions must I accomplish to address this problem? To address this problem, you must accomplish the following:

Actions | Compliance | Procedures
(1) Inspect all flight control system rods for cracks and corrosion damage | Initially inspect within the next 3 months after August 11, 2003 (the effective date of this AD or within 24 months after the last inspection accomplished in accordance with Shorts Service Bulletin 27-74 (any revision level), whichever occurs later, unless already accomplished. Repetitively inspect thereafter at intervals not to exceed 24 months. | In accordance with the ACCOMPLISHMENT INSTRUCTIONS section of Shorts Service Bulletin Number 27-77, Original Issue 27/FEB/03.
(2) If corrosion is found during any inspection that does not exceed the limits specified in Shorts Service Bulletin 27-77, repair the corrosion damage on the affected flight control rod | Prior to further flight after the inspection where the damage is found. | In accordance with the ACCOMPLISHMENT INSTRUCTIONS section of Shorts Service Bulletin Number 27-77, Original Issue 27/FEB/03.
(3) If any crack is found or if corrosion damage that exceeds the limits specified in Shorts Service Bulletin 27-77 is found during any inspection required by this AD, replace the affected flight control rod | Prior to further flight after the inspection where the damage or cracks are found. | In accordance with the ACCOMPLISHMENT INSTRUCTIONS section of Shorts Service Bulletin Number 27-77, Original Issue 27/FEB/03.
(4) Do not install any used flight control rod on any affected airplane unless it has been inspected and found to be corrosion and crack free as specified in this AD. Then repetitively inspect as required in paragraph (d)(1) of this AD | As of August 11, 2003 (the effective date of this AD). | In accordance with the ACCOMPLISHMENT INSTRUCTIONS section of Shorts Service Bulletin Number 27-77, Original Issue 27/FEB/03.

(e) Can I comply with this AD in any other way? To use an alternative method of compliance or adjust the compliance time, use the procedures in 14 CFR 39.19. Send these requests to the Manager, Standards Office, Small Airplane Directorate. For information on any already approved alternative methods of compliance, contact Doug Rudolph, Aerospace Engineer, FAA, Small Airplane Directorate, 901 Locust, Room 301, Kansas City, Missouri 64106; telephone: (816) 329-4059; facsimile: (816) 329-4090.

(f) Are any service bulletins incorporated into this AD by reference? Actions required by this AD must be done in accordance with Shorts Service Bulletin Number 27-77, Original Issue February 27, 2003. The Director of the Federal Register approved this incorporation by reference under 5 U.S.C. 552(a) and 1 CFR part 51. You may get copies from Short Brothers PLC, P.O. Box 241, Airport Road, Belfast BT3 9DZ Northern Ireland; telephone: +44 (0) 28 9045 8444; facsimile: +44 (0) 28 9073 3396. You may view copies at the FAA, Central Region, Office of the Regional Counsel, 901 Locust, Room 506, Kansas City, Missouri, or at the Office of the Federal Register, 800 North Capitol Street, NW., suite 700, Washington, DC.

Note: The United Kingdom Civil Airworthiness Authority (CAA) classified Shorts Service Bulletin Number 27-77, Original Issue 27/FEB/03, as mandatory. The CAA classifying a service bulletin as mandatory is the equivalent for airplanes on the British registry as an AD is for airplanes on the U.S. registry.

(g) When does this amendment become effective? This amendment becomes effective on August 11, 2003.

Issued in Kansas City, Missouri, on June 16, 2003.
Michael Gallagher,
Manager, Small Airplane Directorate, Aircraft Certification Service.

[FR Doc. 03-15853 Filed 6-27-03; 8:45 am]

BILLING CODE 4910-13-P